DEPARTMENT OF ENERGY

Federal Energy Regulatory Commission

[Project No. 8315-011]

AIM Development (USA) LLC; Eagle Creek Sartell Hydro, LLC: Notice of Application for Transfer of License and Soliciting Comments and Motions To Intervene

On July 15, 2014, AIM Development (USA) LLC (transferor) and Eagle Creek Sartell Hydro, LLC (transferee) filed an application for transfer of license of the Deadwood Creek Hydroelectric Project located on the Mississippi River near Sartell, Stearns, and Benton counties, Minnesota.

The transferor and transferee seek Commission approval to transfer the license for the Sartell Dam Hydro Project from the transferor to the transferee.

Applicant Contacts: For Transferor: Mr. Jeff McGlin, AIM Development (USA) LLC, 100 E. Sartell Street, Sartell, MN 56377-1947, Phone: 920-470-1061 Email: jmcglin@aimrecyclinggroup.com. Kamila Wirpszo, AIM Development (USA) LLC, c/o AIM Holding LP, 9100 Henri Bourassa East, Montreal, Quebec H1E 7R9, Email: kwirpszo@aim-rg.com. Mr. Thomas McCann Mullooly, Foley & Lardner LLP, 777 East Wisconsin Avenue, Milwaukee, WI 53202-5306, Phone: 414-297-5566, Email: tmullooly@foley.com. For Transferee: Mr. Bernard H. Cherry, Eagle Creek Sartell Hydro, LLC, 65 Madison Avenue, Morristown, NJ 07960, Phone: 973-998-8400, Email: Bud.cherry@eaglecreekre.com. Mr. Donald H. Clarke, Mr. Joshua E. Adrian, Duncan, Weinberg, Genzer & Pembroke, P.C., 1615 M Street NW., Suite 800, Washington, DC 20036, Phone: 202-467-6370, Emails: dch@dwgp.com or jea@dwgp.com.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-8315-011.

Dated: August 27, 2014.
Kimberly D. Bose,
Secretary.

[FR Doc. 2014-21161 Filed 9-4-14; 8:45 am]

BILLING CODE 6717-01-P